DEPARTMENT OF THE INTERIOR

Bureau of Land Management

[NM-930-1320-PF; OKNM 96155]

Extension of the Current Qualification of the Designated Nine (9) County “Area” of Oklahoma Federal Coal for “Category 5” Royalty Rate Reductions

AGENCY: Bureau of Land Management, Interior.

ACTION: Notice.

SUMMARY: This announcement gives notice that (1) since the Federal coal lands within the nine (9) Oklahoma Counties of Atoka, Coal, Haskell, Latimer, LeFlore, McIntosh, Muskogee, Pittsburgh, and Sequoyah were designated in 1990 by the New Mexico State Office as a Federal coal “Area”, and (2) since that Area was determined to be “Qualified” as being eligible for “Category 5” royalty rate reductions in order to establish fair and competitive royalties, and (3) since no important changes in the Area coal market have occurred, the State Director of the New Mexico State Office of the Bureau of Land Management has made the Decision to extend the Qualification of the Designated Area for “Category 5” Royalty Rate Reduction for five (5) years from December 17, 2000 to, and inclusive of, December 17, 2005. Category 5 refers to royalty reductions granted within a designated Area that the Bureau of Land Management has concluded to have met ALL of the following criteria:

1. The Federal Government is not market dominate.

2. Federal lease royalty rates and terms are above the current market royalty rates for non-Federal coal in the Area.

3. Federal coal would be bypassed or remain undeveloped due to royalty rate differentials.

4. The above conditions exist throughout the Area.

5. A royalty rate reduction under this Category is not likely to result in undue competitive advantages over neighboring coal producing areas.

The Area Federal coal royalty rates shall continue to be: (A) 2% for Federal coal mined by industry accepted underground methods, and (B) 4% for Federal coal mined by industry accepted surface methods.

FOR FURTHER INFORMATION CONTACT: Darwyn F. Pogue, Geologist/Minerals Review Appraiser, Division of Resource Planning, Use and Protection, New Mexico State Office, Bureau of Land Management, P.O. Box 27115, Mail Stop 93000, Santa Fe, New Mexico 87502-0115, Telephone 505-438-7466.

Dated: October 5, 2000.
Carsten F. Goff,
Deputy State Director, Division of Resource Planning, Use and Protection.

[FR Doc. 00-26139 Filed 10-11-00; 8:45 am]

BILLING CODE 4310-FB-M